DEPARTMENT OF HOUSING AND URBAN DEVELOPMENT

[Docket No. FR-6179-D-01]

Order of Succession for the Office of the Chief Financial Officer

AGENCY: Office of the Secretary, HUD.

ACTION: Notice of Order of Succession.

SUMMARY: In this notice, the Secretary designates the Order of Succession for the Office of the Chief Financial Officer. Today's Order of Succession supersedes all prior Orders of Succession for the Office of the Chief Financial Officer.

DATES: September 12, 2019.

FOR FURTHER INFORMATION CONTACT: Michelle Hollins, Director, Office of the Chief Financial Officer Management Staff, Office of the Chief Financial Officer, Department of Housing and Urban Development, 451 Seventh Street SW, Room 3120, Washington, DC 20410, telephone number 202-402-2322 (this is not a toll-free number). Persons with hearing or speech impairments may access this number through TTY by calling the Federal Relay at 800-877-8339 (this is a toll-free number).

SUPPLEMENTARY INFORMATION: The Secretary is issuing this Order of Succession of officials authorized to perform the functions and duties of the Office of the Chief Financial Officer when—by reason of absence, disability, or vacancy in office—the Chief Financial Officer is not available to exercise the powers or perform the duties of the office. This Order of Succession is subject to the provisions of the Federal Vacancies Reform Act of 1998 (5 U.S.C. 3345-3349d).

Today's publication supersedes all prior Orders of Succession for the Office of the Chief Financial Officer. Accordingly, the Secretary designates the following Order of Succession:

Section A. Order of Succession

Subject to the provisions of the Federal Vacancies Reform Act of 1998, during any period when—by reason of absence, disability, or vacancy in office—the Chief Financial Officer is not available to exercise the powers or perform the duties of the Chief Financial Officer the following officials within the Office of the Chief Financial Officer are hereby designated to exercise the powers and perform the duties of the office:

(1) Deputy Chief Financial Officer.

(2) Assistant Chief Financial Officer for Budget.

(3) Assistant Chief Financial Officer for Accounting.

(4) Assistant Chief Financial Officer for Systems.

(5) Assistant Chief Financial Officer for Financial Management.

(6) Director, Fort Worth Accounting Center.

(7) Director, Funds Control Division, Fort Worth Accounting Center.

(8) Director, Payments and Collection Division, Fort Worth Accounting Center.

(9) Branch Chief, Intragovernmental, Collection and General Ledger Reconciliation Branch, Payments and Collection Division, Fort Worth Accounting Center.

These officials shall perform the functions and duties of the office in the order specified herein, and no official shall serve unless all the other officials whose positions titles precede his/hers in this order are unable to act by reason of absence, disability, or vacancy in office. No individual who is serving in an office listed above in an acting capacity shall act as the Chief Financial Officer pursuant to this Order of Succession.

Section B. Authority Superseded

This Order of Succession supersedes any prior Orders of Succession for the Chief Financial Officer.

Authority: Section 7(d), Department of Housing and Urban Development Act, 42 U.S.C. 3535(d).

Dated: September 12, 2019.
Benjamin S. Carson, Sr.,
Secretary.

[FR Doc. 2019-20226 Filed 9-18-19; 8:45 am]

BILLING CODE 4210-67-P